Title 3—

The President

Executive Order 14387 of February 18, 2026

Promoting the National Defense by Ensuring an Adequate Supply of Elemental Phosphorus and Glyphosate-Based Herbicides

By the authority vested in me as President by the Constitution and the laws of the United States of America, including the Defense Production Act of 1950, as amended (50 U.S.C. 4501 et seq.) (the “Act”), and section 301 of title 3, United States Code, it is hereby ordered:

Section 1. Policy and Findings. Elemental phosphorus is pervasive in defense supply chains and is therefore crucial to military readiness and national defense. It is a key input in smoke, illumination, and incendiary devices and is a critical component for manufacturing the semiconductors that are central to numerous defense technologies, such as radar, solar cells, sensors, and optoelectronics. It is also increasingly important in modern lithium-ion battery chemistries used in a multitude of weapon-system supply chains. For these and other reasons, on November 7, 2025, the Department of the Interior, acting pursuant to the Energy Act of 2020, designated phosphate as a critical mineral.

Elemental phosphorus is also a critical precursor element for the production of glyphosate-based herbicides, which play a critical role in maintaining America's agricultural advantage by enabling farmers to efficiently and cost-effectively produce food and livestock feed. As the most widely used crop protection tools in United States agriculture, glyphosate-based herbicides are a cornerstone of this Nation's agricultural productivity and rural economy, allowing United States farmers and ranchers to maintain high yields and low production costs while ensuring that healthy, affordable food options remain within reach for all American families.

There is no direct one-for-one chemical alternative to glyphosate-based herbicides. Lack of access to glyphosate-based herbicides would critically jeopardize agricultural productivity, adding pressure to the domestic food system, and may result in a transition of cropland to other uses due to low productivity. Given the profit margins growers currently face, any major restrictions in access to glyphosate-based herbicides would result in economic losses for growers and make it untenable for them to meet growing food and feed demands.

Ensuring an adequate supply of elemental phosphorus and glyphosate-based herbicides is thus crucial to the national security and defense, including food-supply security, which is essential to protecting the health and safety of Americans. Nonetheless, the United States' ability to domestically produce those critical inputs is extremely limited. Indeed, there is only a single domestic producer of elemental phosphorus and glyphosate-based herbicides, and this producer does not meet our annual needs for those inputs. For that reason, more than 6,000,000 kilograms of elemental phosphorus are imported from other countries annually. Future reduction or the cessation of domestic production of elemental phosphorus and glyphosate-based herbicides would gravely threaten American national security by disrupting, and requiring the further offshoring of, this Nation's defense supply chain including by having a debilitating impact on domestic agricultural capabilities.

I accordingly find that, consistent with the Department of the Interior's designation, elemental phosphorus is a scarce material that is critical to national defense and security. Our Nation's inadequate elemental phosphorus production, which must sustain both defense manufacturing and our significant agricultural needs, and the threat of increased domestic scarcity leave us vulnerable to hostile foreign actors and pose an imminent threat to military readiness.

Consistent with these findings, I find that ensuring robust domestic elemental phosphorus mining and United States-based production of glyphosate-based herbicides is central to American economic and national security. Without immediate Federal action, the United States remains inadequately equipped and vulnerable. Accordingly, I hereby find, pursuant to section 101 of the Act, that domestic elemental phosphorus and glyphosate-based herbicides meet the criteria specified in section 101(b) of the Act (50 U.S.C. 4511(b)).

Sec. 2. Ensuring an Adequate Supply of Elemental Phosphorus and Glyphosate-Based Herbicides. (a) Notwithstanding Executive Order 13603 of March 16, 2012 (National Defense Resources Preparedness), the authority of the President conferred by section 101 of the Act to require performance of contracts or orders (other than contracts of employment) to promote the national defense over performance of any other contracts or orders, to allocate materials, services, and facilities as deemed necessary or appropriate to promote the national defense, and to implement the Act in subchapter III of chapter 55 of title 50, United States Code (50 U.S.C. 4554, 4555, 4556, 4559, 4560), is delegated to the Secretary of Agriculture (Secretary) with respect to ensuring a continued and adequate supply of elemental phosphorus and glyphosate-based herbicides.

(b) The Secretary shall use the authority under section 101 of the Act (50 U.S.C. 4511), in consultation with the Secretary of War, to determine the proper nationwide priorities and allocation of all the materials, services, and facilities necessary to ensure a continued and adequate supply of elemental phosphorus and glyphosate-based herbicides.

(c) The Secretary shall issue such orders and adopt and revise appropriate rules and regulations as may be necessary to implement this order.

(d) In exercising the authority delegated in this section, the Secretary shall take into account the President's judgment that domestic production of elemental phosphorus and glyphosate-based herbicides is critical to the national defense. Accordingly, the Secretary shall ensure that any order, rule, or regulation issued under this section does not place the corporate viability of any domestic producer of elemental phosphorus or glyphosate-based herbicides at risk.

Sec. 3. Immunity. This order confers all immunity provided for in section 707 of the Act (50 U.S.C. 4557). Additionally, domestic producers of elemental phosphorus and glyphosate-based herbicides are required to comply with this order, in accordance with the provisions of 7 CFR part 789.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Agriculture.

THE WHITE HOUSE,

February 18, 2026.

[FR Doc. 2026-03628

Filed 2-20-26; 11:15 am]

Billing code 3410-18-P